DEPARTMENT OF ENERGY

Federal Energy Regulatory Commission

[Project No. 2694-042]

Duke Energy Carolinas, LLC; Notice of Application for Temporary Variance and Soliciting Comments, Motions To Intervene, and Protests

Take notice that the following hydroelectric application has been filed with the Commission and is available for public inspection:

a. Application Type: Temporary Variance from license Article 401

b. Project No.: 2694-042

c. Date Filed: June 9, 2015

d. Applicant: Duke Energy Carolinas, LLC

e. Name of Project: Queens Creek Hydroelectric Project

f. Location: The project is located on Queens Creek, near the Town of Topton in Macon County, North Carolina.

g. Filed Pursuant to: Federal Power Act, 16 U.S.C. 791(a)-825(r)

h. Applicant Contact: Jeffrey G. Lineberger, Director, Water Strategy and Hydro Licensing, Duke Energy Carolinas, LLC, 526 South Church Street, Mail Code: EC12Y/PO Box 1006, Charlotte, NC, 28201-1006; telephone: (704) 382-5942.

i. FERC Contact: Kurt Powers, telephone: (202) 502-8949, and email address: kurt.powers@ferc.gov.

j. Deadline for filing comments, motions to intervene, and protests is 15 days from the issuance date of this notice by the Commission.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail a copy to: Kimberly D. Bose, Secretary, Federal Energy Regulatory Commission, 888 First Street NE., Washington, DC 20426. Please include the project number (P-2694-042) on any comments or motions filed.

k. Description of Request: The licensee is requesting a temporary variance to the reservoir elevation range for Queens Creek Lake required by Article 401 of the project license. Article 401 requires the licensee to maintain Queens Creek Lake within one foot above and two feet below the reservoir's normal full operating pool level of 3,017.0 feet mean sea level (msl) (or 2,895.0 feet Nantahala Datum (ND)). The licensee requests to begin lowering Queens Creek Lake on October 1, 2015, to reach a target reservoir elevation of approximately 2,985.2 feet msl by November 1, 2015. The drawdown would allow the licensee to make required repairs to the headgate screens and draft tube for the Queens Creek Hydroelectric Station. The drawdown would also provide safe access for divers to install a bulkhead to allow the licensee to drain and replace leaking penstock piping components and valves. Once the reservoir level reaches the target elevation of 2,985.2 feet msl the bulkhead would be installed, closing the intake structure, and the lake would begin refilling to the normal range required by Article 401. The licensee would maintain a minimum flow of one cubic feet per second in the bypassed reach during the drawdown and repairs; which the licensee plans to complete by November 30, 2015.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. A copy is also available for inspection and reproduction at the address in item (h) above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 2, 2015.
Kimberly Bose,
Secretary.

[FR Doc. 2015-22650 Filed 9-8-15; 8:45 am]

BILLING CODE 6717-01-P